DEPARTMENT OF COMMERCE

Foreign-Trade Zones Board

[Docket 48-2000]

Proposed Subzone Status—Komatsu America International Co. (Construction Equipment) Chattanooga, TN; Amendment of Application

Notice is hereby given that the application of the Chattanooga Chamber Foundation, grantee of Foreign-Trade Zone 134, for special-purpose subzone status for the manufacturing facilities (construction equipment) of Komatsu America International Company in Chattanooga, Tennessee (Doc. 48-2000, 65 FR 50178, 8/17/2000), has been amended to add a second site (100,000 sq. ft.) in Chattanooga. The additional site is located at 1408 Hamill Street. The application otherwise remains unchanged.

The comment period is reopened until July 5, 2001. Submissions (original and 3 copies) shall be addressed to the Board's Executive Secretary at the address below.

A copy of the application and the amendment and accompanying exhibits are available for public inspection at the following locations:

Office of the Executive Secretary, Foreign-Trade Zone Board, U.S. Department of Commerce, Room 4008, 14th & Pennsylvania Avenue, NW,Washington, DC 20230.

U.S. Department of Commerce Export Assistance Center, 601 West Summit Hill Drive, Suite 300, Knoxville, TN 37902.

Dated: June 6, 2001.
Dennis Puccinelli,
Executive Secretary.

[FR Doc. 01-15077 Filed 6-14-01; 8:45 am]

BILLING CODE 3510-DS-P